DEPARTMENT OF THE TREASURY

Internal Revenue Service

Proposed Collection; Comment Request for Form 720-TO

Correction

In notice document 01-5458, appearing on page 13631, in the issue of Tuesday, March 6, 2001, make the following correction:

On page 13631, in the second column, under the heading DATES:, in the second line, “May 17, 2001” should read “May 7, 2001”.

[FR Doc. C1-5458 Filed 3-16-01; 8:45 am]

BILLING CODE 1505-01-D